DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arkansas:
Saline (FEMA Docket No.: B-1305) | City of Benton (12-06-0842P) | The Honorable Dave Mattingly, Mayor, City of Benton, P.O. Box 607, Benton, AR 72018 | 114 South East Street, Benton, AR 72015. | April 22, 2013 | 050192
Saline (FEMA Docket No.: B-1305) | City of Bryant (12-06-0842P) | The Honorable Jill Dabbs, Mayor, City of Bryant, 210 Southwest 3rd Street, Bryant, AR 72022 | 210 Southwest 3rd Street, Bryant, AR 72022. | April 22, 2013 | 050308
Saline (FEMA Docket No.: B-1305) | Unincorporated areas of Saline County (12-06-0842P) | The Honorable Lanny Fite, Saline County Judge, Saline County Courthouse, 200 North Main Street, Room 117, Benton, AR 72015 | Saline County Courthouse, 200 North Main Street, Room 117, Benton, AR 72015. | April 22, 2013 | 050191
New Mexico:
Sandoval (FEMA Docket No.: B-1291) | Village of Corrales (12-06-1884P) | The Honorable Phillip Gasteyer, Mayor, Village of Corrales, 4324 Corrales Road, Corrales, NM 87048. | Village Hall, 4324 Corrales Road, Corrales, NM 87048. | April 1, 2013 | 350094
Oklahoma:
Tulsa (FEMA Docket No.: B-1297) | City of Jenks (12-06-3225P) | Mr. Mike Tinker, Manager, City of Jenks, P.O. Box 2007, Jenks, OK 74037 | 211 North Elm Street Jenks, OK 74037. | April 12, 2013 | 400209
Pennsylvania:
Chester (FEMA Docket No.: B-1291) | Township of West Goshen (12-03-1877P) | The Honorable Raymond H. Halvorsen, Chairman, Township of West Goshen, Board of Supervisors, 1025 Paoli Pike, West Chester, PA 19380 | West Goshen Township Building, 1025 Paoli Pike, West Chester, PA 19380. | April 4, 2013 | 420293
Texas:
Bell (FEMA Docket No.: B-1305) | City of Killeen (12-06-0554P) | The Honorable Daniel A. Corbin, Mayor, City of Killeen, P.O. Box 1329, Killeen, TX 76541 | City Hall, 101 North College Street, Killeen, TX 76540. | April 22, 2013 | 480031
Collin (FEMA Docket No.: B-1305) | City of Plano (12-06-0656P) | The Honorable Phil Dyer, Mayor, City of Plano, 1520 Avenue K, Plano, TX 75074 | City Hall, 1520 Avenue K, Plano, TX 75074. | April 26, 2013 | 480140
Harris (FEMA Docket No.:B-1291) | Unincorporated areas of Harris County (12-06-3202P) | The Honorable Ed Emmett, Harris County Judge, 1001 Preston, Suite 911, Houston, TX 77002 | Harris County, 10555 Northwest Freeway, Houston, TX 77092. | April 11, 2013 | 480287
Lamar (FEMA Docket No.: B-1291) | Unincorporated areas of Lamar County (12-06-2815P) | The Honorable Chuck Superville, Jr., Lamar County Judge, 119 North Main Street, Paris, TX 75460 | Lamar County Courthouse, 119 North Main Street, Paris, TX 75460. | April 1, 2013 | 480891
Lubbock (FEMA Docket No.: B-1279) | City of Lubbock (12-06-1157P) | The Honorable Glen Robertson, Mayor, City of Lubbock, P.O. Box 2000, Lubbock, TX 79457 | City Hall, 1625 13th Street, Lubbock, TX 79401. | January 22, 2013 | 480452
Virginia:
City of Bristol (FEMA Docket No.: B-1291) | City of Bristol (12-03-0985P) | Mr. Dewey P. Cashwell, Jr., Manager, City of Bristol, 300 Lee Street, Bristol, VA 24201 | Virginia City Hall, 300 Lee Street, Bristol, VA 24201. | April 11, 2013 | 510022
City of Virginia Beach (FEMA Docket No.: B-1297) | City of Virginia Beach (12-03-2078P) | The Honorable William D. Sessoms, Jr., Mayor, City of Virginia Beach, City Hall, Building 1, 2401 Courthouse Drive, Virginia Beach, VA 23456 | Department of Public Works, Municipal Center, Building 2, 2405 Courthouse Drive, Virginia Beach, VA 23456. | April 11, 2013 | 515531
Stafford (FEMA Docket No.: B-1291) | Unincorporated areas of Stafford County (12-03-0748P) | The Honorable Susan Stimpson, Chairman, Stafford County Board of Supervisors, 1300 Courthouse Road, Stafford, VA 22554 | Stafford County Administration Center, 1300 Courthouse Road, Stafford, VA 22554. | April 1, 2013 | 510154

(Catalog of Federal Domestic Assistance No. 97.022, “Flood Insurance.”)

Dated: May 17, 2013.
Roy E. Wright,
Deputy Associate Administrator for Mitigation, Department of Homeland Security, Federal Emergency Management Agency.

[FR Doc. 2013-13938 Filed 6-11-13; 8:45 am]

BILLING CODE 9110-12-P